DEPARTMENT OF TRANSPORTATION

Federal Aviation Administration

14 CFR Part 39

[Docket No. FAA-2005-21435; Directorate Identifier 2004-NM-163-AD]

RIN 2120-AA64

Airworthiness Directives; Bombardier Model DHC-8-401 and -402 Airplanes

AGENCY: Federal Aviation Administration (FAA), Department of Transportation (DOT).

ACTION: Notice of proposed rulemaking (NPRM).

SUMMARY: The FAA proposes to adopt a new airworthiness directive (AD) for certain Bombardier Model DHC-8-401 and -402 airplanes. This proposed AD would require a one-time inspection of the fuel and hydraulic tubes, and corrective actions if necessary. This proposed AD would also require modifying fairlead plate assemblies. This proposed AD is prompted by reports of chafing between fuel and hydraulic tubes and the fairlead plate where the tubes pass through the firewall. We are proposing this AD to prevent chafing of the fuel and hydraulic tubes, which could lead to fuel and/or hydraulic fluid leakage in the engine nacelle area and consequent fire or explosion.

DATES: We must receive comments on this proposed AD by July 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• By fax: (202) 493-2251.

• Hand Delivery: Room PL-401 on the plaza level of the Nassif Building, 400 Seventh Street. SW., Washington, DC, between 9 a.m. and 5 p.m., Monday through Friday, except Federal holidays.

For service information identified in this proposed AD, contact Bombardier, Inc., Bombardier Regional Aircraft Division, 123 Garratt Boulevard, Downsview, Ontario M3K 1Y5, Canada.

You can examine the contents of this AD docket on the Internet at http://dms.dot.gov, or in person at the Docket Management Facility, U.S. Department of Transportation, 400 Seventh Street, SW., room PL-401, on the plaza level of the Nassif Building, Washington, DC. This docket number is FAA-2005-21435; the directorate identifier for this docket is 2004-NM-163-AD.

FOR FURTHER INFORMATION CONTACT: Richard Fiesel, Aerospace Engineer, Airframe and Propulsion Branch, ANE-171, FAA, New York Aircraft Certification Office, 1600 Stewart Avenue, Suite 410, Westbury, New York 11590; telephone (516) 256-7504; fax (516) 794-5531.

SUPPLEMENTARY INFORMATION:

Comments Invited

We invite you to submit any relevant written data, views, or arguments regarding this proposed AD. Send your comments to an address listed under ADDRESSES. Include “Docket No. FAA-2005-21435; Directorate Identifier 2004-NM-163-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

Transport Canada Civil Aviation (TCCA), which is the airworthiness authority for Canada, notified us that an unsafe condition may exist on certain Bombardier Model DHC-8-401 and -402 airplanes. TCCA advises that service difficulty reports indicate that chafing of fuel and hydraulic tubes has been found at the fairlead plate where the tubes pass through the firewall. If the tubes are not centered in the fairlead plate, nacelle flexing can cause fouling or chafing damage to existing hydraulic and fuel pipes in the nacelle zone 3 area. This condition, if not corrected, could result in fuel and/or hydraulic fluid leakage in the engine nacelle area and consequent fire or explosion.

Relevant Service Information

Bombardier has issued Service Bulletin 84-54-09, Revision “B,” dated June 15, 2004. The service bulletin describes procedures for inspecting the fuel and hydraulic tubes for nicks, dents, chafing, or damage, and doing corrective action if necessary. The service bulletin also describes procedures for modifying fairlead plate assemblies. The corrective action, if damage found during the inspections exceeds the limit specified as “Acceptable” in the service bulletin, includes reworking the tubes or replacing the tubes with new tubes. The service bulletin specifies that the compliance time for the corrective action is either 400 flight hours after the inspection, or before further flight, depending on the measurement of damage found. Accomplishing the actions specified in the service information is intended to adequately address the unsafe condition. TCCA mandated the service information and issued Canadian airworthiness directive CF-2004-07, dated April 14, 2004, to ensure the continued airworthiness of these airplanes in Canada.

Bombardier Service Bulletin 84-54-09, Revision “B,” dated June 15, 2004, refers to GKN Aerospace Services Service Bulletin 1-71-20, dated April 7, 2004, as an additional source of service information for modifying the fairlead plate assemblies. The GKN service bulletin is included in the Bombardier service bulletin.

FAA's Determination and Requirements of the Proposed AD

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are proposing this AD, which would require accomplishing the actions specified in the service information described previously.

Clarification of Actions In the Proposed AD and Canadian Airworthiness Directive

Although Canadian airworthiness directive CF-2004-07 does not specify to do an inspection of the fuel/hydraulic tubes, the directive does specify to install Bombardier Modsum 4-113438 (modified fairlead plate assemblies) in accordance with Bombardier Service Bulletin 84-54-09. The inspection is included in the service bulletin and TCCA does intend for the inspection to be done as part of the modification. Therefore, this proposed AD would require an inspection of the fuel/hydraulic tubes and modification of the fairlead plate assemblies in accordance with the service bulletin.

Costs of Compliance

This proposed AD would affect about 18 airplanes of U.S. registry. The proposed actions would take about 4 work hours per airplane, at an average labor rate of $65 per work hour. Required parts would cost about $200 per airplane. Based on these figures, the estimated cost of the proposed AD for U.S. operators is $8,280, or $460 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc. (Formerly de Havilland, Inc.): Docket No. FAA-2005-21435; Directorate Identifier 2004-NM-163-AD.

Comments Due Date

(a) The Federal Aviation Administration must receive comments on this AD action by July 14, 2005.

Affected ADs

(b) None.

Applicability

(c) This AD applies to Bombardier Model DHC-8-401 and -402 airplanes, serial numbers 4003 through 4089 inclusive, certificated in any category.

Unsafe Condition

(d) This AD was prompted by reports of chafing between fuel and hydraulic tubes and the fairlead plate where the tubes pass through the firewall. We are issuing this AD to prevent chafing of the fuel and hydraulic tubes, which could lead to fuel and/or hydraulic fluid leakage in the engine nacelle area and consequent fire or explosion.

Compliance

(e) You are responsible for having the actions required by this AD performed within the compliance times specified, unless the actions have already been done.

Service Bulletin Reference

(f) The term “service bulletin,” as used in this AD, means the Accomplishment Instructions of Bombardier Service Bulletin 84-54-09, Revision “B,” dated June 15, 2004.

Inspection, Corrective Action, and Modification

(g) For airplanes on which Bombardier Systems Drawings (SYD) 84-28-002 and SYD 84-29-006 have not been incorporated or on which Modsum 4-184081 and Modsum 4-184079 have not been incorporated: Within 500 flight hours after the effective date of this AD, do the actions specified in paragraph (i) of this AD.

(h) For airplanes on which Bombardier SYD 84-28-002 and SYD 84-29-006 have been incorporated or on which Modsum 4-184081 and Modsum 4-184079 have been incorporated: Within 4,000 flight hours after the effective date of this AD, do the actions specified in paragraph (i) of this AD.

(i) For airplanes identified in paragraphs (g) and (h) of this AD at the times specified in paragraphs (g) and (h) of this AD, do the actions specified in paragraphs (i)(1) and (i)(2) of this AD in accordance with the service bulletin.

(1) Do a general visual inspection of the fuel/hydraulic tubes for nicks, dents, chafing, or damage. If any nick, dent, chafing, or damage is found that is above the applicable limit specified as “Acceptable” in the service bulletin: Do the applicable corrective action in accordance with the service bulletin at the applicable time specified in the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(2) Modify the fairlead plate assemblies in accordance with the service bulletin.

Note 2: Bombardier Service Bulletin 84-54-09, Revision “B,” dated June 15, 2004, refers to GKN Aerospace Services Service Bulletin 1-71-20, dated April 7, 2004, as an additional source of service information for modifying the fairlead plate assemblies. The GKN service bulletin is included in the Bombardier service bulletin.

Actions Done According to Previous Issue of Service Bulletin

(j) Actions done before the effective date of this AD in accordance with Bombardier Service Bulletin 84-54-09, dated January 23, 2004; or Revision “A,” dated April 22, 2004; are acceptable for compliance with the corresponding requirements of this AD.

Parts Installation

(k) After the effective date of this AD, no person may install a plate, part number 85415048-107, 85415048-108, 85415087-107, or 85415087-108, on any airplane.

Alternative Methods of Compliance (AMOCs)

(l) The Manager, New York Aircraft Certification Office, FAA, has the authority to approve AMOCs for this AD, if requested in accordance with the procedures found in 14 CFR 39.19.

Related Information

(m) Canadian airworthiness directive CF-2004-07, dated April 14, 2004, also addresses the subject of this AD.

Issued in Renton, Washington, on May 27, 2005.
Ali Bahrami,
Manager, Transport Airplane Directorate, Aircraft Certification Service.

[FR Doc. 05-11709 Filed 6-13-05; 8:45 am]

BILLING CODE 4910-13-P